DEPARTMENT OF THE INTERIOR

Bureau of Land Management

[LLOR936000.14400000.ET0000, 212 WAOR-55695]

Notice of Application for Withdrawal Extension and Opportunity for Public Meeting for the Holden Mine Reclamation Project, Washington

AGENCY: Bureau of Land Management, Interior.

ACTION: Notice of application.

SUMMARY: The Bureau of Land Management (BLM) is providing notice of an application from the United States Forest Service (USFS) requesting that Public Land Order (PLO) No. 7533 be extended for an additional 20 years.

DATES: Comments and requests for a public meeting must be received by January 25, 2022.

ADDRESSES: All comments and meeting requests should be sent to the BLM Oregon/Washington State Director, P.O. Box 2965, Portland, Oregon 97208. The application and the case file are available for public examination by interested persons by appointment at the BLM Public Room, 1220 SW 3rd Ave., 11th Floor, Portland, OR 97208 during regular business hours 8:00 a.m. to 4:30 p.m., Monday through Friday except holidays. Please call 503-808-6001 to make an appointment.

FOR FURTHER INFORMATION CONTACT: Dustin Wharton, Section Chief of Lands and Realty, BLM Oregon/Washington State Office, at 503-808-6001, by email at dwharton@blm.gov, or at the address noted above. The USFS can be reached at the Okanogan-Wenatchee National Forest Supervisor's Office, 215 Melody Lane, Wenatchee, WA 98801, 509-664-9204.

Persons who use a telecommunications device for the deaf (TDD) may call the Federal Relay Service (FRS) at 1-800-877-8339 to contact either Dustin Wharton or the USFS during normal business hours. The FRS is available 24 hours a day, 7 days a week, to leave a message or question. You will receive a reply during normal business hours.

SUPPLEMENTARY INFORMATION: PLO No. 7533 withdrew 1,265 acres of National Forest System lands in the Okanogan-Wenatchee National Forest from location and entry under the United States mining laws for a period of 20 years to protect the Holden Mine Reclamation Site, where the USFS has remediated for release of hazardous substances under the Comprehensive Environmental Response, Compensation, and Liability Act, including undertaking infrastructure improvements and capital investments in Chelan County, Washington. This notice advises the public of an opportunity to comment on the USFS application for the extension of the existing withdrawal for an additional 20 years and to request a public meeting. This notice also corrects the legal land description and acreage figure (from 1,265 acres to 1,285 acres) stated in PLO No. 7533. Unless extended, the withdrawal established by PLO 7553 will expire on August 5, 2022.

The legal land description and acreage figure written in PLO No. 7533 is revised to reflect the BLM Cadastral Survey's Specification for Descriptions of Land. The revised land description does not change the footprint of the lands withdrawn which is as follows:

Willamette Meridian

T. 31 N., R. 16 E.,

Protraction Block 37.

T. 31 N., R 17 E.,

Sec. 8, S½NE¼, S½NW¼, and S½;

Protraction Block 37.

The area described contains 1,285 acres, according to the official protraction diagrams of said land on file with the BLM.

The use of a right-of-way, interagency agreement, or cooperative agreement would not constrain nondiscretionary uses or protect the capital investments made. There are no suitable alternative sites since the lands described in PLO No. 7533 identify the area as an ongoing reclamation project tied to the location of former mining activities.

No water rights will be needed to fulfill the purpose of this requested withdrawal extension.

Mining would be inconsistent with protecting the remediation work.

Comments, including name and street address of respondents, will be available for public review by appointment at the BLM, 1220 SW 3rd Ave., Portland, OR 97208 during regular business hours 8:00 a.m. to 4:30 p.m., Monday through Friday except holidays. Call 503-808-6001 to make an appointment.

Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting may be afforded in connection with the proposed withdrawal extension. All interested persons who desire a public meeting for the purpose of being heard on the application for this withdrawal extension must submit a written request to the State Director, BLM Oregon/Washington State Office at the address in the ADDRESSES section, within 90 days from the date of publication of this notice. If the authorized officer determines that a public meeting will be held, a notice of the date, time, and place will be published in the Federal Register and local newspapers and posted on the BLM website at: www.blm.gov at least 30 days before the scheduled date of the meeting. This withdrawal extension proposal will be processed in accordance with the regulations set forth in 43 CFR 2310.4.

(Authority: 43 CFR 2310.3-1)

Barry R. Bushue,
Oregon/Washington State Director.

[FR Doc. 2021-23422 Filed 10-26-21; 8:45 am]

BILLING CODE 3410-11-P